DEPARTMENT OF THE INTERIOR

Geological Survey

Application Notice Describing the Areas of Interest and Establishing the Closing Date for Receipt of Applications Under the Education Component of the National Cooperative Geologic Mapping Program (EDMAP) for Fiscal Year 2003

AGENCY: Department of the Interior, U.S. Geological Survey (USGS).

ACTION: Notice.

SUMMARY: Applications are invited for research projects under the EDMAP. This program is a component of the National Geologic Mapping Program, which is designed to produce information on areas of scientific, social, or economic welfare in the United States. Funding is to support masters and doctoral students during geologic field mapping. Cooperative agreement awards will be on an equal cost-sharing basis; matched with funds from non-Federal sources.

Applications may be submitted by colleges and universities with accredited masters and doctoral programs in Geoscience or related departments only.

ADDRESSES: The program announcement is expected to be available on or about August 26, 2002. You may obtain a copy of Announcement No. 03HQPA0004 from the USGS Acquisition and Grants Information Site at http://www.usgs.gov/contracts/EDMAP/index.html or by writing to Kimberly Dove, U.S. Geological Survey, Office of Acquisition and Grants, Mail Stop 205G, 12201 Sunrise Valley Drive, Reston, Virginia 20192, or by fax (703) 648-7901.

DATES: The closing date for receipt of applications will be on or about November 13, 2002. The actual closing date will be specified in Announcement No. 03HQPA0004.

FOR FURTHER INFORMATION CONTACT: Randy Orndorf, Educational Component of the National Cooperative Geologic Mapping Program, Geological Survey, Mail Stop 908, 12201 Sunrise Valley Drive, Reston, Virginia 20192. Telephone (703) 648-4316.

SUPPLEMENTARY INFORMATION: Authority for this program is contained in the National Geologic Mapping Reauthorization Act of 1999, Public Law 106-148. The Office of Management and Budget Catalog of Federal Domestic Assistance Number is 15.810.

Dated: August 20, 2002.
Carol F. Aten,
Chief, Office of Administrative Policy and Services.

[FR Doc. 02-22180 Filed 8-29-02; 8:45 am]

BILLING CODE 4310-Y7-M